DEPARTMENT OF EDUCATION

Submission for OMB Review; Comment Request

AGENCY: Department of Education.

SUMMARY: The Acting Leader, Information Management Case Services Team, Regulatory Information Management Services, Office of Management invites comments on the submission for OMB review as required by the Paperwork Reduction Act of 1995.

DATES: Interested persons are invited to submit comments on or before January 22, 2008.

ADDRESSES: Written comments should be addressed to the Office of Information and Regulatory Affairs, Attention: Education Desk Officer, Office of Management and Budget, 725 17th Street, NW., Room 10222, Washington, DC 20503. Commenters are encouraged to submit responses electronically by e-mail to oira_submission@omb.eop.gov or via fax to (202) 395-6974. Commenters should include the following subject line in their response “Comment: [insert OMB number], [insert abbreviated collection name, e.g., “Upward Bound Evaluation”]. Persons submitting comments electronically should not submit paper copies.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Acting Leader, Information Management Case Services Team, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: December 17, 2007.
Linda Darby,
Acting Leader, Information Management Case Services Team, Regulatory Information Management Services, Office of Management.

Institute of Education Sciences

Type of Review: New.

Title: Understanding Science Professional Development and the Science Achievement of English Learners.

Frequency: Annually.

Affected Public:

Individuals or household.

Reporting and Recordkeeping Hour Burden:

Responses: 3,516.

Burden Hours: 673.

Abstract: The purpose of this study is to investigate how to prepare middle-school teachers to improve all students' physical science content knowledge, including that of low-performing students and English learners (ELs). Using a cluster-randomized experimental design, the research will test the effectiveness of WestEd's Understanding Science model of professional development, an approach that incorporates science content, analysis of student work and thinking, and critical analysis of issues related to teaching that content to students. The professional development course sessions focus on science concepts both in the context of structured investigations and in narrative cases of teaching practice drawn from actual classroom episodes involving those concepts. This model will be evaluated by comparing it with a control condition that provides no additional science professional development beyond that already received in each school. The experiment will evaluate the value added for grade 8 teachers in California who take an Understanding Science course in addition to whatever science professional development they ordinarily receive. The ultimate outcome of interest is the impact of the professional development on students' science achievement. To provide a basis for explaining the results, impacts will also be studied on teachers' science content knowledge, and a descriptive study will examine selected aspects of their classroom science instructional practices.

Requests for copies of the information collection submission for OMB review may be accessed from http://edicsweb.ed.gov, by selecting the “Browse Pending Collections” link and by clicking on link number 3452. When you access the information collection, click on “Download Attachments “ to view. Written requests for information should be addressed to U.S. Department of Education, 400 Maryland Avenue, SW., Potomac Center, 9th Floor, Washington, DC 20202-4700. Requests may also be electronically mailed to ICDocketMgr@ed.gov or faxed to 202-245-6623. Please specify the complete title of the information collection when making your request.

[FR Doc. E7-24798 Filed 12-20-07; 8:45 am]

BILLING CODE 4000-01-P